DEPARTMENT OF HEALTH AND HUMAN SERVICES

Administration for Children and Families

Submission for OMB Review; Refugee Support Services (RSS) and RSS Set Aside Sub-Agency List (0970-0556)

AGENCY: Office of Refugee Resettlement, Administration for Children and Families, HHS.

ACTION: Request for public comment.

SUMMARY: The Administration for Children and Families (ACF) Office of Refugee Resettlement (ORR) seeks approval for a revision to an existing information collection, requesting Refugee Support Services (RSS) grantees and RSS Set Aside grantees to provide the agency name, city, state, website, and funding amount for each contracted sub-grantee. Additionally, ORR seeks approval to have the option to make this information public. This would enhance the accessibility of refugee service provider information to eligible clients in support of the service referral responsibilities of the State Refugee Coordinators. Similar information for ORR's discretionary grants is currently made public.

DATES: Comments due within 30 days of publication. The Office of Management and Budget (OMB) is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: This data collection requests RSS grantees and RSS Set Aside grantees to provide the agency name, city, state, website, and funding amount for each contracted sub-grantee.

The information will be used for national resource mapping pertaining to ORR RSS funding at the local level. Improved knowledge of all local providers is important to ORR's overall oversight of the program. In addition to RSS formula funding to states and state replacement agencies who then issue sub-awards to local providers, ORR also awards discretionary grants that directly fund local refugee service providers. This report will provide ORR a complete picture of the availability all ORR resources to assist newly arrived refugees at the local level increasing our ability to identify gaps or target areas of need.

Respondents: State governments and replacement designees.

Annual Burden Estimates
Instrument | Total number of respondents | Total number of responses per respondent | Average burden hours per response | Total burden hours | Annual burden hours
RSS and RSS Set Aside Sub-grantee List | 56 | 3 | 2 | 336 | 112

Estimated Total Annual Burden Hours: 112.

Authority: Refugee Act of 1980 [Immigration and Nationality Act, Title IV, Chapter 2 Section 412(e)] and 45 CFR 400.28.

Mary B. Jones,
ACF/OPRE Certifying Officer.

[FR Doc. 2021-18307 Filed 8-24-21; 8:45 am]

BILLING CODE 4184-45-P